DEPARTMENT OF TRANSPORTATION

Federal Highway Administration

Environmental Impact Statement; San Bernardino County, CA

AGENCY: Federal Highway Administration (FHWA), DOT.

ACTION: Notice of intent.

SUMMARY: The FHWA is issuing this notice to advise the public of its intent to prepare an Environmental Impact Statement (EIS) for the proposed U.S. 395 Realignment Freeway/Expressway project on U.S. 395 from the Interstate 15 (I-15)/U.S. 395 interchange to Farmington Road. Part of the realignment would go through the cities of Oak Hills, Hesperia, Victorville, Adelanto and incorporated areas of San Bernardino County, California.

FOR FURTHER INFORMATION CONTACT: Tay Dam, Senior Project Development Engineer, Federal Highway Administration, 888 South Figueroa, Suite 1850, Los Angeles, CA, 90017. Telephone: (213) 202-3954. Boniface Udotor, California Department of Transportation District 8, 464 W. Fourth Street, San Bernardino, CA 92401. Telephone: (909) 383-1387.

SUPPLEMENTARY INFORMATION: The FHWA, in cooperation with the California Department of Transportation, District 8, will prepare an EIS to realign U.S. 395 from the I-15/U.S. 395 interchange to Farmington Road. The proposed U.S. 395 Realignment Freeway/Expressway corridor to be evaluated is located either on existing U.S. 395 or west of existing U.S. 395, through the cities of Oak Hills, Hesperia, Victorville, Adelanto and incorporated areas of San Bernardino County. The entire proposed project length is approximately 45.0 miles long. A preferred alternative has not been selected at this point. All build alternatives begin at the I-15 U.S. 395 interchange and would extend to Farmington Road.

The viable alternatives in the environmental analysis consist of an existing alignment and two realignments upgrading U.S. 395 from a two-lane highway to a six-lane freeway/four-lane expressway configuration. The six-lane freeway portion of the proposed existing alignment/realignments would start at the I-15/U.S. 395 junction and ends at Purple Sage Street. The expressway portion for the proposed action would continue from Purple Sage Street to Farmington Road. The build alternatives will include construction of new interchanges. For consideration in the EIS, the following four alternatives will be analyzed:

• Alternate A: No Build. This Alternative consists of no change to existing facilities along the proposed project portion of the U.S. 395 corridor.

• Alternative D: Existing Alignment. The Existing Alignment Alternative follows the existing alignment or a slightly offset alignment throughout the project limits.

• Alternative F: Realignment West of Existing Corridor. This Alternative proposes to realign the corridor from the I-15/U.S. 395 interchange to Farmington Road. This realignment heads northwest in the vicinity of the Oak Hills Community and the Union Pacific Railroad, and then continues in a northerly direction just west of Caughlin Road within San Bernardino County limits and traversing the western portions of the City of Adelanto, where it converges back to paralleling the existing U.S. 395 alignment for the remainder of the project limits.

• Alternative G: Realignment West of Existing Corridor along Oro Grande Wash. This alternative consists of a realignment detaching from existing the I-15/U.S. 395 interchange, where immediately crosses the Union Pacific Railroad within the first 1½ miles heading northeast along the Oro Grande Wash. the realignment continues northeasterly throughout the western portions of the Cities of Hesperia and Victorville and follows in a northerly direction just west of Cuaghlin Road within San Bernardino County limits and traversing the western portions of the City of Adelanto where it converges back to paralleling the existing U.S. 395 alignment for the remainder of the project limits.

The alternatives described above will be further refined through efforts conducted under the National Environmental Policy Act (40 CFR parts 1500-1508, and 23 CFR part 771), the 1990 Clear Air Act Amendments, section 404 of the Clean Water Act, Executive Order 12898 regarding environmental justice, the National Historic Preservation Act, the Endangered Species Act, the section 4(f) of the U.S. Department of Transportation Act, and other Federal environmental protection laws, regulations, policies, and executive orders. The EIS will incorporate comments from the public scoping process as well as analysis in technical studies. Other alternatives suggested during scoping process would be considered during the development of the EIS. The EIS will consider any additional reasonable alternatives identified during scoping process. Letters describing the proposed action and soliciting comments will be sent to appropriate Federal, State, regional and local agencies, and to private organizations and citizens who previously have expressed, or are known to have, an interest in this project. Location and details of the public scoping meeting for the proposed project will be advertised in local newspapers and other media and will be hosted by the California Department of Transportation, District 8.

(Catalog of Federal Domestic Assistance Program Number 20.205, Highway Research, Planning and Construction. The regulations implementing Executive Order 12372 regarding intergovernmental consultation Federal programs and activities apply to this program)

Dated: June 27, 2006.
Gene K. Fong,
Division Administrator, California Division, Federal Highway Administration.

[FR Doc. 06-5987 Filed 7-3-06; 8:45 am]

BILLING CODE 4910-22-M